DEPARTMENT OF HEALTH AND HUMAN SERVICES

National Institutes of Health

Prospective Grant of Exclusive License: Adult Human Dental Pulp Stem Cells In Vitro and In Vivo

AGENCY: National Institutes of Health, Public Health Service, DHHS.

ACTION: Notice.

SUMMARY: This is notice, in accordance with 35 U.S.C. 209(c)(1) and 37 CFR 404.7(a)(1)(i), that the National Institutes of Health (NIH), Department of Health and Human Services, is contemplating the grant of an exclusive license worldwide to practice the invention embodied in: U.S. Patent Application Serial No. 60/219,989, filed July 21, 2000, now converted into PCT application number PCT/US01/23053 filed July 23, 2001 entitled, “Adult Human Dental Pulp Stem Cells In Vitro and In Vivo,” to Dentigenix, having a place of business in the state of Washington. The field of use may be limited to the treatment of dental regeneration. The United States of America is the assignee of the patent rights in this invention. This announcement is the first notice to grant an exclusive license to this technology.

DATES: Only written comments and/or application for a license, which are received by the NIH Office of Technology Transfer on or before July 29, 2002 will be considered.

ADDRESSES: Requests for a copy of the patent applications, inquiries, comments and other materials relating to the contemplated license should be directed to: Marlene Shinn, Technology Licensing Specialist, Office of Technology Transfer, National Institutes of Health, 6011 Executive Boulevard, Suite 325, Rockville, MD 20852-3821; Telephone: (301) 496-7056, ext. 285; Facsimile: (301) 402-0220; e-mail: MS482M@NIH.GOV.

SUPPLEMENTARY INFORMATION: This technology utilizes dental pulp stem cells wherein an adult individual's own dental pulp tissue (one or two wisdom teeth) can potentially be used to engineer healthy living teeth. Our scientists have isolated and characterized a subpopulation of cells within normal, human dental pulp tissue with the ability to grow and proliferate in vitro. These stem cells can be induced under defined culture conditions to form calcified nodules in vitro and have been shown to differentiate into specialized tissues.

The prospective exclusive license will be royalty-bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: May 13, 2002.
Jack Spiegel,
Director, Division of Technology Development and Transfer, Office of Technology Transfer.

[FR Doc. 02-13278 Filed 5-24-02; 8:45 am]

BILLING CODE 4140-01-P